DEPARTMENT OF THE TREASURY

Customs Service

19 CFR Part 101

Expansion of the Port Limits of Portland, MA

AGENCY: Customs Service, Department of the Treasury.

ACTION: Notice of proposed rulemaking.

SUMMARY: This document proposes to amend the Customs regulations pertaining to the field organization of Customs by extending the geographical limits of the port of entry of Portland, Maine, to include the City of Auburn, Maine. This proposed change is being made to provide better service to carriers, importers, and the general public.

DATE: Comments must be received on or before March 10, 2003.

ADDRESSES: Written comments must be submitted to the U. S. Customs Service, Office of Regulations and Rulings, Attention: Regulations Branch, 1300 Pennsylvania Avenue, NW., Washington, DC 20229. Submitted comments may be inspected at the U.S. Customs Service, 799 9th Street, NW., Washington, DC, during regular business hours. Arrangements to inspect submitted comments should be made in advance by calling Mr. Joseph Clark at 202-572-8768.

FOR FURTHER INFORMATION CONTACT: Mr. Keith Fleming, Office of Field Operations, at 202-927-1049.

SUPPLEMENTARY INFORMATION:

Background

To provide better service to carriers, importers, and the general public, Customs proposes to amend § 101.3(b)(1), Customs regulations (19 CFR 101.3(b)(1)), by extending the geographical limits of the port of entry of Portland, Maine.

Current Port Limits of Portland, Maine

The current port limits of Portland, Maine, as extended by Executive Order (E. O.) 9297 of February 1, 1943 (8 FR 1479), include Portland, Maine, and the territory embracing the municipalities of South Portland, Falmouth, and Cape Elizabeth, in the State of Maine, and Peak, Long, Cliff, Cushing, and Diamond Islands, in the State of Maine.

Proposed Expansion of Port

It is proposed to expand the port limits of the port of entry of Portland, Maine, to include the City of Auburn, Maine.

Customs proposes to include the City of Auburn within the port limits to facilitate the clearance of international cargo at the Auburn Intermodal Facility (“AIF”). AIF is a rail/truck intermodal facility with a high cube, doublestack intermodal terminal worldwide.

If the proposed extension of the Portland, Maine, port of entry limits to include the City of Auburn, Maine, is adopted, the limits of port column adjacent to the listing of Portland, Maine, in the list of Customs ports of entry in § 101.3(b)(1) will be amended accordingly.

Authority

This change is proposed under the authority of 5 U.S.C. 301 and 19 U.S.C. 2, 66 and 1624.

Comments

Before adopting this proposal, consideration will be given to any written comments that are timely submitted to Customs. All such comments received from the public pursuant to this notice of proposed rulemaking will be available for public inspection in accordance with the Freedom of Information Act (5 U.S.C. 552), § 1.5, Treasury Department Regulations (31 CFR 1.5), and § 103.11(b), Customs regulations (19 CFR 102.11(b)), during regular business days between the hours of 9 a.m. and 4:30 p.m. at the Regulations Branch, Office of Regulations and Rulings, U.S. Customs Service, 799 9th Street, NW., Washington, DC.

Regulatory Flexibility Act and Executive Order 12866

Customs establishes, expands and consolidates Customs ports of entry throughout the United States to accommodate the volume of Customs-related activity in various parts of the country. Thus, although this document is being issued with notice for public comment, because it relates to agency management and organization it is not subject to the notice and public procedure requirements of 5 U.S.C. 553. Accordingly, this document is not subject to the provisions of the Regulatory Flexibility Act (5 U.S.C. 601 et seq.). Agency organization matters such as this proposed port extension are exempt from consideration under Executive Order 12866.

Drafting Information

The principal author of this document was Janet L. Johnson, Regulations Branch. However, personnel from other offices participated in its development.

Robert C. Bonner,
Commissioner of Customs.
Approved: January 6, 2003.
Timothy E. Skud,
Deputy Assistant Secretary of the Treasury.

[FR Doc. 03-432 Filed 1-8-03; 8:45 am]

BILLING CODE 4820-02-P